DEPARTMENT OF LABOR

Employment and Training Administration

Temporary Suspension of H-2A Certification Fees

AGENCY: Employment and Training Administration, Department of Labor.

ACTION: Notice.

SUMMARY: The Employment and Training Administration (ETA) of the Department of Labor (DOL or Department) is issuing this notice to announce that it is temporarily suspending the collection of H-2A labor certification fees. Implementing a temporary suspension period will allow ETA's Office of Foreign Labor Certification (OFLC) to move toward accepting electronic fees, as directed in President Trump's Executive Order 14247, Modernizing Payments To and From America's Bank Account (E.O. 14247). OFLC will be transitioning from collecting fees submitted in paper format (e.g., checks) to implementing a process to receive fee remittances electronically. The temporary suspension of H-2A certification fees will begin on September 2, 2025. During the temporary suspension period, OFLC will not issue invoices for certification fees for H-2A Applications for Temporary Certifications that are certified, and will not seek retroactive payment of fees for those certifications. Any employer that is issued an H-2A certification fee invoice prior to the effective date of the temporary suspension of collections must pay the invoice by the due date. OFLC will announce the end of the temporary suspension of H-2A certification fees via a Federal Register notice.

DATES: The H-2A temporary labor certification fee suspension period is effective as of September 2, 2025 and will remain in place until further notice. The Department will resume collecting these fees once it transitions to collecting fees electronically. The end of the suspension period will be announced via a Federal Register notice.

FOR FURTHER INFORMATION CONTACT: Brian Pasternak, Administrator, Office of Foreign Labor Certification, Employment and Training Administration, U.S. Department of Labor, 200 Constitution Avenue NW, Room N-5311, Washington, DC 20210, telephone (202) 693-8200 (this is not a toll-free number). For persons with a hearing or speech disability who need assistance to use the telephone system, please dial 711 to access telecommunications relay services.

(Authority: 8 U.S.C. 1188(a)(2); 20 CFR 655.163; E.O. 14247, 90 FR 14001.)

SUPPLEMENTARY INFORMATION:

Background

The H-2A nonimmigrant visa program allows employers to hire foreign workers in the United States on a temporary basis to perform agricultural labor or services. See Section 101(a)(15)(H)(ii)(a) of the Immigration and Nationality Act (INA). The Secretary of Labor (Secretary) has unique responsibilities for the H-2A temporary agricultural labor program under the INA as delegated to OFLC through ETA, for review of the Application for Temporary Employment Certification for certification where employers meet the requirements of 20 CFR part 655 subpart B, and, after certification, for the collection of a certification fee associated with H-2A temporary agricultural labor certifications. Specifically, under Section 218(a)(2) of the INA, “the Secretary of Labor may require by regulation, as a condition of issuing the certification, the payment of a fee to recover the reasonable costs of processing applications for certification.” The Department's regulations at 20 CFR part 655 subpart B required the certification fee collection in 1987.¹

¹ See 52 FR 20507 (Jun 1, 1987); 75 FR 6884 (Feb 12, 2010); 87 FR 61660 (Oct 12, 2022).

Pursuant to the Department's current H-2A regulations, where OFLC grants H-2A temporary agricultural labor certification for an Application for Temporary Employment Certification, the employer is required under 20 CFR 655.163 to remit payment of the H-2A certification fee within 30 calendar days. For each H-2A temporary labor certification, the fee is $100.00 for each employer receiving a temporary agricultural labor certification, plus $10.00 for each H-2A worker certified under the Application for Temporary Employment Certification, provided that the fee to an employer for each temporary agricultural labor certification received will be no greater than $1,000. See 20 CFR 655.163(a).

Also under 20 CFR 655.163, the certification determination includes a bill for the required certification fees. Each employer of H-2A workers under the Application for Temporary Employment Certification (except joint employer agricultural associations, which may not be assessed a fee in addition to the fees assessed to the employer-members of the agricultural association) must pay in a timely manner a non-refundable fee upon issuance of the certification granting the Application for Temporary Employment Certification (in whole or in part). Where OFLC certifies an H-2A Application for Temporary Employment Certification, in whole or in part, OFLC issues an invoice to the employer(s) for payment of the H-2A certification fee and payment must be received within 30 calendar days of certification.

OFLC's innovative technology allows for the electronic filing and processing of employer applications using the Foreign Labor Application Gateway (FLAG) System (https://flag.dol.gov/), as well as the issuance of electronic decisions to employers and communications directly with employers and their authorized attorneys and agents, as applicable, throughout the application process. Currently, however, H-2A labor certification fees are not collected electronically. Rather employers must mail payments to OFLC by check or money order. OFLC must then manually process payments and work with the Department to deposit payments with the U.S. Treasury.

On March 25, 2025, President Trump issued E.O. 14247, Modernizing Payments To and From America's Bank Account (90 FR 14001).² The E.O. 14247 “promotes operational efficiency by mandating the transition to electronic payments for all Federal disbursements and receipts by digitizing payments to the extent permissible under appliable law . . .” and requires the U.S. Department of the Treasury to “cease issuing paper checks” by September 30, 2025. It further requires all executive departments and agencies to “comply by transitioning to electronic funds transfer [EFT] methods, including direct deposit, prepaid card accounts, and other digital payment options, and take all steps necessary to enroll recipients in EFT payments . . .” The directives included in E.O. 14247 were given to executive agencies, to transition to EFT methods and other digital payment options for payments made to the Federal Government to facilitate electronic processing, as permissible and as soon as practicable.

² See E.O.14247, Modernizing Payments To and From America's Bank Account (2025) at https://www.whitehouse.gov/presidential-actions/2025/03/modernizing-payments-to-and-from-americas-bank-account/.

Accordingly, to advance President Trump's directives in E.O. 14247 and to build upon the Department's ongoing technological efficiency initiatives, OFLC is temporarily suspending the collection of H-2A certification fees under 20 CFR 655.163 to allow for coordination with the U.S. Department of the Treasury for receipt of electronic payments, perform technology updates to the FLAG System, and to further plan for electronic remittance and acceptance of H-2A certification fees. This transition from mailed checks and money orders to electronic receipt of H-2A certification fees will result in a more efficient and less burdensome process for both the government and American employers who rely on the H-2A visa program. Further details of electronic payment methods, remittance, and the date on which OFLC will resume acceptance of H-2A certification fees will be provided in future Federal Register notices.

Temporary Suspension of H-2A Certification Fees

As of September 2, 2025, the Department is temporarily suspending the issuance of invoices for certification fees for H-2A certifications until further notice is provided in the Federal Register. For applications that are certified on or after September 2, 2025, and during this temporary suspension period, OFLC will not require or retroactively seek fee payments for those certified H-2A Applications for Temporary Employment Certification. The Department is delaying implementation of the temporary suspension period for 30 days to make necessary technology changes and to allow collection of outstanding invoices prior to implementation of the suspension of issuing invoices. Any employer that is issued an H-2A certification fee invoice prior to the suspension of collections must pay the invoice by the deadline in the invoice. Once the Department is ready to implement the electronic payment methods, it will inform the public by publishing a notice in the Federal Register. Employers will resume the submission of H-2A certification fees in accordance with the dates and details that will be specified in that announcement.

Susan Frazier,
Acting Assistant Secretary for Employment and Training, Labor.

[FR Doc. 2025-14510 Filed 7-30-25; 8:45 am]

BILLING CODE 4510-FP-P